DEPARTMENT OF TRANSPORTATION

Federal Aviation Administration

37th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-seventh meeting of the RTCA Special Committee 206, Aeronautical Information and Meteorological Data Link Services.

DATES: The meeting will be held June 9-13, 2014, 8:30 a.m.-5:00 p.m.

ADDRESSES: The meeting will be held at RTCA, 1150 18th St. NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 206. The agenda will include the following:

June 9

• Opening remarks: DFO, Chairman, and Host

• Attendees' introductions

• Review and approval of meeting agenda

• Action item review

• Approval of previous (Kansas City) meeting minutes

• Sub-Groups' status and week's plan

• Industry presentations

• First Wake Vortex Tiger Team Meeting Debrief

• WG-76 Meeting Debrief

• Sub-Group meetings

June 10

• Sub-Groups meetings

• SG6: SE2020 Eddy Dissipation Rate (EDR) Turbulence Project Update Plenary

June 11

• Sub-Group Meetings

June 12

• SG-4 DO-252 FRAC Resolution

• Sub-Group Meetings

• SG-4 DO-252 FRAC Resolution (if needed)

June 13

• Sub-Groups' reports

• Decision to Approve DO-252 Update for PMC Review

• Action item review

• Future meeting plans and dates

• Industry coordination and presentations

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 8, 2014.
Mohannad Dawoud,
Management Analyst, NextGen, Business Operations Group, Federal Aviation Administration.

[FR Doc. 2014-11383 Filed 5-15-14; 8:45 am]

BILLING CODE 4910-13-P